FARM CREDIT ADMINISTRATION

RIN 3052-AC13

Loan Policies and Operations; Loan Syndication Transactions

AGENCY: Farm Credit Administration.

ACTION: Notice; extension of comment period.

SUMMARY: The Farm Credit Administration (FCA, we, or us) is extending the comment period on our notice concerning loan syndication transactions by Farm Credit System (System) institutions so all interested parties have more time to respond to our questions.

DATES: Please send your comments to the FCA by August 19, 2003.

ADDRESSES: We encourage you to send comments by electronic mail to reg-comm@fca.gov or through the Pending Regulations section of FCA's Web site, www.fca.gov. You may also send comments to S. Robert Coleman, Director, Regulation and Policy Division, Office of Policy and Analysis, Farm Credit Administration, 1501 Farm Credit Drive, McLean, Virginia 22102-5090 or by facsimile to (703) 734-5784. You may review copies of all comments we receive at our office in McLean, Virginia.

FOR FURTHER INFORMATION CONTACT:

Dennis K. Carpenter, Senior Policy Analyst, Office of Policy and Analysis, Farm Credit Administration, McLean, VA 22102-5090, (703) 883-4498, TTY (703) 883-4434;

or

Richard A. Katz, Senior Attorney, Office of General Counsel, Farm Credit Administration, McLean, VA 22102-5090, (703) 883-4020, TTY (703) 883-4020.

SUPPLEMENTARY INFORMATION: On January 17, 2003, we published a notice in the Federal Register seeking public comment on the treatment of loan syndication transactions by Farm Credit System (System) banks and associations. The comment period expired on February 18, 2003. See 68 FR 2540, January 17, 2003. We reopened the comment period until April 21, 2003, to provide interested parties an additional 60 days to comment on this issue. See 68 FR 8764, February 25, 2003. Subsequently, we extended the comment until June 20, 2003, again to provide additional opportunities for interested parties to provide comment. See 68 FR 19538, April 21, 2003.

A member of the public has now requested us to extend the comment period for an additional 60 days, until August 19, 2003. In response to this request, we are extending the comment period until August 19, 2003, so all interested parties have more time to respond to our questions. The FCA supports public involvement and participation in its regulatory and policy process and invites all interested parties to review and provide comments on our notice.

Dated: June 19, 2003.
Jeanette C. Brinkley,
Secretary, Farm Credit Administration Board.

[FR Doc. 03-16061 Filed 6-24-03; 8:45 am]

BILLING CODE 6705-01-P